FEDERAL RESERVE SYSTEM

Agency Information Collection Activities: Announcement of Board Approval Under Delegated Authority and Submission to OMB

AGENCY: Board of Governors of the Federal Reserve System

ACTION: Notice.

SUMMARY: Background: Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the OMB 83-Is and supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer -Cindy Ayouch--Division of Research and Statistics, Board of Governors of the Federal Reserve System, Washington, DC 20551 (202-452-3829); OMB Desk Officer-Joseph Lackey--Office of Information and Regulatory Affairs, Office of Management and Budget, New Executive Office Building, Room 10235, Washington, DC 20503.

SUPPLEMENTARY INFORMATION:

Final Approval Under OMB Delegated Authority of the Extension for Three Years, Without Revision, of the Following Report:

Report title: Report of Terms of Credit Card Plans

Agency form number: FR 2572

OMB Control number: 7100-0239

Frequency: Semi-annual

Reporters: Financial institutions

Annual reporting hours: 75 hours

Estimated average hours per response: 0.25 hours

Number of respondents: 150

Small businesses are affected.

General description of report: This information collection is voluntary (15 U.S.C. §1646(b)) and is not given confidential treatment.

Abstract: This report collects data on credit card pricing and availability from a sample of at least 150 financial institutions that offer credit cards to the general public. The information is reported to the Congress and made available to the public in order to promote competition within the industry. The Board publishes the information in a brochure titled “SHOP: The Card You Pick Can Save You Money” (SHOP), available through Publication Services at the Board and on the Board's public web site, www.federalreserve.gov/pubs/shop.

Board of Governors of the Federal Reserve System, January 7, 2003.

Jennifer J. Johnson
Secretary of the Board.

[FR Doc. 03-568 Filed 1-10-03; 8:45 am]

BILLING CODE 6210-01-S